FEDERAL COMMUNICATIONS COMMISSION

[DA 17-849]

Incentive Auction Task Force and Media Bureau Extend the Filing Deadline for the First Priority Filing Window for Eligible Full Power and Class A Television Stations—Revised Filing Deadline: September 15, 2017

AGENCY: Federal Communications Commission.

ACTION: Notice.

SUMMARY: This document extends the filing deadline for the first priority filing window for eligible full power and Class A television stations to file applications for alternate channels or expanded facilities to September 15, 2017.

DATES: September 13, 2017.

FOR FURTHER INFORMATION CONTACT: Erin Griffith, 202-418-2957, Erin.Griffith@fcc.gov, or Kevin Harding, 202-418-7077, Kevin.Harding@fcc.gov, Video Division, Media Bureau, Federal Communications Commission.

SUPPLEMENTARY INFORMATION: Technical issues briefly interrupted access to the Media Bureau's Licensing and Management System (LMS), which stations use to file construction permit applications and reimbursement cost estimate information. Recognizing the importance of first priority filing window, the filing window will now close at 11:59 p.m. EDT on Friday, September 15, 2017.

Federal Communications Commission.
Thomas Horan,
Chief of Staff, Media Bureau.

[FR Doc. 2017-19419 Filed 9-12-17; 8:45 am]

BILLING CODE 6712-01-P